DEPARTMENT OF THE TREASURY

Internal Revenue Service

26 CFR Part 301

[TD 9443]

RIN 1545-BG16

Postponement of Certain Tax-Related Deadlines by Reason of a Federally Declared Disaster or Terroristic or Military Action; Correction

AGENCY: Internal Revenue Service (IRS), Treasury.

ACTION: Correction to final regulations.

SUMMARY: This document contains a correction to final regulations (TD 9443) that were published in the Federal Register on Thursday, January 15, 2009 (74 FR 2370) relating to postponement of certain tax-related deadlines either due to service in a combat zone or due to a Federally declared disaster. The regulations reflect changes in the law made by the Victims of Terrorism Tax Relief Act of 2001, the Tax Extenders and Alternative Minimum Tax Relief Act of 2008 (TEAMTRA), and current IRS practice.

DATES: This correction is effective on December 17, 2009, and is applicable on January 15, 2009.

FOR FURTHER INFORMATION CONTACT: Mary Ellen Keys, (202) 622-4570 (not a toll-free number).

SUPPLEMENTARY INFORMATION:

Background

The final regulations (TD 9443) that are the subject of this document are under section 7508A of the Internal Revenue Code.

Need for Correction

As published, the final regulations (TD 9443) contain an error that may prove to be misleading and is in need of clarification.

Correction of Publication

Accordingly, the publication of the final regulations (TD 9443), which were the subject of FR Doc. E9-767, is corrected as follows:

On page 2370, column 3, in the preamble, under the paragraph heading “Explanation of Revisions”, last paragraph of the column, third through twelfth lines, the language “Example 9. Example 9, which reflects current IRS practice, explains the impact of disaster relief on installment agreement payments that become due during the postponement period. Example 9 explains that the affected taxpayer's obligation to make installment agreement payments is suspended during the postponement period. Example 9 further explains that,” is corrected to read “Example 8. Example 8, which reflects current IRS practice, explains the impact of disaster relief on installment agreement payments that become due during the postponement period. Example 8 explains that the affected taxpayer's obligation to make installment agreement payments is suspended during the postponement period. Example 8 further explains that,”.

LaNita Van Dyke,
Chief, Publications and Regulations Branch, Legal Processing Division, Associate Chief Counsel, (Procedure and Administration).

[FR Doc. E9-29977 Filed 12-16-09; 8:45 am]

BILLING CODE 4830-01-P